CONSUMER PRODUCT SAFETY COMMISSION

[Docket No. CPSC-2009-0073]

Proposed Collection; Comment Request—Virginia Graeme Baker Pool and Spa Safety Act; Compliance Form

AGENCY: Consumer Product Safety Commission.

ACTION: Notice.

SUMMARY: As required by the Paperwork Reduction Act of 1995 (44 U.S.C. Chapter 35), the Consumer Product Safety Commission (“CPSC” or “Commission”) requests comments on a proposed collection of information regarding a form that will be used to verify whether pools and spas are in compliance with the Virginia Graeme Baker Pool and Spa Safety Act. The Commission will consider all comments received in response to this notice before requesting approval of this collection of information from the Office of Management and Budget.

DATES: Written comments must be received by the Office of the Secretary not later than November 20, 2009.

ADDRESSES: You may submit comments, identified by Docket No. CPSC-2009-0073, by any of the following methods:

Submit electronic comments in the following way:

Federal eRulemaking Portal: http://www.regulations.gov. Follow the instructions for submitting comments. To ensure timely processing of comments, the Commission is no longer accepting comments submitted by electronic mail (e-mail) except through http://www.regulations.gov.

Submit written submissions in the following way:

Mail/Hand delivery/Courier (for paper, disk, or CD-ROM submissions), preferably in five copies, to: Office of the Secretary, Consumer Product Safety Commission, Room 502, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: For information about the proposed collection of information call or write Linda Glatz, Division of Policy and Planning, Office of Information Technology and Technology Services, Consumer Product Safety Commission, 4330 East West Highway, Bethesda, MD 20814; telephone: (301) 504-7671 or by e-mail to lglatz@cpsc.gov.

SUPPLEMENTARY INFORMATION:

A. Background

The Virginia Graeme Baker Pool and Spa Safety Act (“Pool and Spa Safety Act”) went into effect on December 19, 2008 (Pub. L. 110-140). The Pool and Spa Safety Act applies to public pools and spas and requires that each swimming pool and spa drain cover manufactured, distributed, or entered into commerce in the United States shall conform to the entrapment protection standards of the ASME/ANSI A112.19.8 performance standard or any successor standard regulating such swimming pool or drain cover pursuant to section 1404(b) of the Act (“Drain Cover Standard”). In addition to the anti-entrapment devices or systems, each public pool and spa in the United States with a single main drain other than an unblockable drain is required to be equipped with 1 or more of the following devices and systems designed to prevent entrapment by pool or spa drains: safety vacuum release system; suction-limiting vent system; gravity drainage system; automatic pump shut-off system or drain disablement. The Pool and Spa Safety Act is designed to prevent the tragic and hidden hazard of drain entrapment and eviscerations in public pools and spas.

The CPSC staff will use a “Verification of Compliance Form” to collect the information necessary to identify drain covers at pools and spas that do not meet the requirements of the ASME/ANSI A112.19.8 performance standard or any successor standard regulating such swimming pool or drain cover. CPSC investigators or designated state or local government officials will use the form which will be filled out entirely at the site during the normal course of the pool and spa inspection. Using the form, the inspectors will collect information regarding the pool or spa facility; identify the type, location and features of the pool or spa; describe the drain covers, anti-entrapment device/systems, sump or equalizer lines at the site; and report on whether any actions are necessary to bring the pool or spa into compliance.

B. Estimated Burden

The CPSC staff estimates that there may be approximately 97 inspections per year. Because the investigators will be talking to either the pool owner/operator or pool staff at the time of the inspection and asking questions to help complete the form, the CPSC staff estimates that the burden hours for pool owners or pool staff to respond to the questions will be approximately 0.5 hours per inspection. Thus, the estimated total annual burden hours for respondents are approximately 48.5 hours (97 inspections × 0.5 hours per inspection). Although respondents may include either junior or senior pool staff, CPSC staff based the annualized cost to respondents based on the compensation for management-level employees, since such employees may be the most knowledgeable of the pool or spa used. The CPSC staff estimates that the annualized cost to all respondents is approximately $2,300.84 based on an hourly wage of $47.44 per hour ($47.44 × 48.5). (Bureau of Labor Statistics (“BLS”), December 2008, all workers, service, management, professional, and related).

The CPSC staff estimates that it will take an average of 2.5 hours to review the information collected from the oral communications with pool owners/operators or staff. The annual cost to the Federal government of the collection of information in these regulations is estimated to be $19,361.21. This is based on an average wage rate of $55.97 (the equivalent of a GS-14 Step 5 employee). This represents 70.1 percent of total compensation with an additional 29.9 percent coming from benefits (BLS, September 2008, percentage total benefits for all civilian management, professional, and related employees), or $79.84 × 242.5 hours.

C. Request for Comments

The Commission solicits written comments from all interested persons about the proposed collection of information. The Commission specifically solicits information relevant to the following topics:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic or other technological collection techniques, or other forms of information technology.

Dated: September 16, 2009.
Todd A. Stevenson,
Secretary, Consumer Product Safety Commission.

[FR Doc. E9-22674 Filed 9-18-09; 8:45 am]

BILLING CODE 6355-01-P